DEPARTMENT OF THE INTERIOR

National Park Service

[NPS-WASO-NRNHL-DTS#-39010; PPWOCRADI0, PCU00RP14.R50000]

National Register of Historic Places; Notification of Pending Nominations and Related Actions

AGENCY: National Park Service, Interior.

ACTION: Notice.

SUMMARY: The National Park Service is soliciting electronic comments on the significance of properties nominated before October 26, 2024, for listing or related actions in the National Register of Historic Places.

DATES: Comments should be submitted electronically by November 20, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 26, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers KEY: State, County, Property Name, Multiple Name (if applicable), Address/Boundary, City, Vicinity, Reference Number.

CONNECTICUT

New Haven County

Long Wharf Pier, 351 Long Wharf Drive, New Haven, SG100011121

IOWA

Polk County

William O. and Mattie M. Coffee House, 4140 Grand Avenue, Des Moines, SG100011107

KANSAS

Douglas County

Friends' Place (Lawrence, Kansas MPS), 1500 Learnard Avenue, Lawrence, MP100011114

Finney County

Sears Roebuck & Co. Store, 601 N Main Street, Garden City, SG100011115

Lincoln County

Felcman, Frank & Anna Homestead (Post Rock Limestone Properties in Kansas, 1870-1948 MPS), 264 N 60th Rd., Sylvan Grove, MP100011116

Miami County

West Elementary School (Public Schools of Kansas MPS), 1009 Pacific Avenue, Osawatomie, MP100011117

Montgomery County

Wesley Chapel, 2696 County Road 4500, Coffeyville vicinity, SG100011118

Sedgwick County

Dawson Farmstead (Agriculture-Related Resources of Kansas MPS), 9801 N Broadway St. & 200 W 93rd St. N, Valley Center, MP100011119

Wyandotte County

First African Methodist Episcopal Church, 1111 N 8th Street, Kansas City, SG100011120

MAINE

Oxford County

Rumford Falls Paper Company Historic District, 60 Lowell and 35 Hartford Streets, Rumford, SG100011132

MARYLAND

Howard County

Sykesville Bypass Bridge (Historic Highway Bridges of Maryland, 1694-1965 MPS), MD 32 Bridge over River Road, the South Branch of the Patapsco River, and CSX Railroad, Sykesville, MP100011131

OHIO

Hamilton County

Schulkers, Robert F., House, 3168 Victoria Avenue (originally Boulevard), Cincinnati, SG100011129

Montgomery County

Santa Clara Business Historic District, 1846-1976 N Main Street, inclusive (both sides of street), Dayton, SG100011127

PENNSYLVANIA

Allegheny County

Loutellus Apartment Hotel, 231-245 Melwood Avenue, Pittsburgh, SG100011109

TEXAS

Medina County

Rainbow Theater, 410 Paris Street, Castroville, SG100011087

VIRGINIA

Richmond INDEPENDENT CITY

Hickory Hill School, 3000 East Belt Boulevard, Richmond, SG100011128

A request for removal has been made for the following resource(s):

KANSAS

Doniphan County

First National Bank Building (Highland, Doniphan County, Kansas MPS), 422-424 West Main St., Highland, OT08000609

Pratt County

Ellis, Earl H., VFW Post #1362, 701 E 1st St., Pratt, OT06000597

Wilson County

Neodesha City Hall Building, 102 S 4th St., Neodesha, OT100002248

Authority: Section 60.13 of 36 CFR part 60.

Sherry A. Frear,
Chief, National Register of Historic Places/National Historic Landmarks Program.

[FR Doc. 2024-25708 Filed 11-4-24; 8:45 am]

BILLING CODE 4312-52-P